DEPARTMENT OF THE INTERIOR

Fish and Wildlife Service

Availability of a Safe Harbor Agreement and Receipt of an Application for an Enhancement of Survival Permit Associated With Proposed Habitat Restoration Activities for Schaus Swallowtail Butterfly Within Cheeca Lodge, Upper Matecumbe Key, Monroe County, Florida

AGENCY: Fish and Wildlife Service, Interior.

ACTION: Notice.

Cheeca Lodge (Applicant) proposes to enter into a Safe Harbor Agreement (SHA) with the U.S. Fish and Wildlife Service (Service) to restore habitat for the endangered Schaus swallowtail butterfly (Papilio aristodemus ponceanus) (butterfly) for a period of 10 years. The Service's Safe Harbor Policy provides that landowners may return properties enrolled under SHAs to conditions that existed prior to entering into the SHA (hereinafter referred to as baseline conditions). Returning enrolled properties to baseline conditions may result in the take of federally listed species, but such taking may be authorized under section 10(a)(1)(A) of the Endangered Species Act of 1973 (U.S.C. 1531 et seq.), as amended (Act), provided that the actions taken pursuant to a signed SHA result in a net conservation benefit to the species. The Applicant has committed to implement such conservation measures for the butterfly and requests issuance of an enhancement of survival permit (ESP) in order to address the take prohibitions of section 9 of the Act should the Applicant choose to return the enrolled property to baseline conditions in the future.

The proposed conservation measures, and the possible future activities that could reduce the effectiveness of these conservation measures, will occur within a golf course owned and maintained by the Applicant in section 32, Township 63 South, Range 37 East, Monroe County, Florida.

The passage of hurricane Georges in 1998 destroyed natural and planted vegetation in the middle and lower Florida Keys. Efforts are currently underway by many landowners to restore vegetation on their properties. The Applicant intends to restore native tropical hardwood vegetation on portions of the enrolled property that currently are maintained as a golf course. With the assistance of the University of Florida Department of Entomology and using funding provided through the National Fish and Wildlife Foundation, the Applicant proposes to plant up to 600 native shrubs and trees within the enrolled property. These vegetation plantings will help create an estimated eight acres of native tropical hardwood forest on the property. Cheeca Lodge contains approximately 27 acres which will be covered under the subject SHA.

Future activities of the Applicant may result in the removal of some or all of the planted native vegetation. Removal of this vegetation could return the enrolled property to the baseline condition. Future alterations to the planted vegetation may destroy all or part of the potentially suitable butterfly habitat that will be established.

A more detailed description of the proposed conservation benefits and potential effects of returning the enrolled property to baseline conditions is provided in the SUPPLEMENTARY INFORMATION section below.

The SHA may be obtained by making a request to the Regional Office (see ADDRESSES). Requests must be in writing to be processed. This notice also advises the public that the Service has made a preliminary determination that issuance of the ESP will not result in significant environmental, economic, social, historical or cultural impacts and is, therefore, categorically excluded from review under the National Environmental Policy Act of 1969, as amended (NEPA), pursuant to 516 Departmental Manual 2, Appendix 1 and 516 Departmental Manual 6, Appendix 1. This notice is provided pursuant to section 10 of the Act and the Service's Safe Harbor Policy (Federal Register Vol. 64, No. 116, June 17, 1999, pp. 32717-32726). The Service specifically requests information, views, and opinions from the public via this notice. Further, the Service is specifically soliciting information regarding the adequacy of the SHA as measured against the Service's Safe Harbor Policy.

DATES: Written comments on the SHA and ESP application should be sent to the Service's Regional Office (see ADDRESSES) and should be received on or before July 13, 2001.

ADDRESSES: Persons wishing to review the SHA and ESP application may obtain a copy by writing the Service's Southeast Regional Office, Atlanta, Georgia. Documents will also be available for public inspection by appointment during normal business hours at the Regional Office, 1875 Century Boulevard, Suite 200, Atlanta, Georgia 30345 (Attn: Endangered Species Permits), or Field Supervisor, U.S. Fish and Wildlife Service, Post Office Box 2676, Vero Beach, Florida 32961-2676. Written data or comments concerning the SHA or ESP application should be submitted to the Regional Office and must be in writing to be processed. Comments must be submitted in writing to be adequately considered in the Service's decision-making process. Please reference permit number TE-022736-0 in your comments, or in requests of the documents discussed herein.

FOR FURTHER INFORMATION CONTACT: Mr. Lee Andrews, Regional Safe Harbor Program Coordinator, (see ADDRESSES above), telephone: 404/679-7217, facsimile: 404/679-7081; or Mr. Mike Jennings, Fish and Wildlife Biologist, South Florida Field Office, Vero Beach, Florida (see ADDRESSES above), telephone: 561/562-3909.

SUPPLEMENTARY INFORMATION: The Schaus swallowtail butterfly is a large dark brown and yellow butterfly that inhabits tropical hardwood hammocks of extreme south Florida. Historically, the Schaus swallowtail butterfly was distributed from south Miami to Lower Matecumbe Key. More recently, Schaus swallowtail butterflies were known only from undisturbed tropical hardwood hammocks from Elliott Key in Biscayne National Park south to northern Key Largo. Reintroductions have recently occurred from southern Dade County to Lower Matecumbe Key. This species was Federally listed as endangered in 1984 due to habitat destruction, mortality associated with application of pesticides for mosquito control, and over-harvesting by collectors. These factors acting in combination with high natural mortality associated with predation of caterpillars resulted in substantial declines in the number and range of this species.

The Schaus swallowtail butterfly prefers dense, mature tropical hardwood hammocks where direct sunlight is filtered or dappled. Adults feed on a number of nectar producing plant species endemic to hardwood hammocks but have most often been observed feeding on guava (Psidium guajava), cheese shrub (Morinda royoc), and wild coffee (Psychotria undata). Adults rarely feed in open areas exposed to direct sunlight. The eggs of this species are typically laid on wild lime (Zanthoxylem fagara) and torchwood (Amyris elemifera) with larva subsequently eating the young, tender shoots of these species.

The proposed planting of native vegetation within the two enrolled properties will provide important food resources for dispersing butterflies. Currently, butterflies traveling south from core population centers on Key Largo and Biscayne National Park do not have dependable sources of nectar producing vegetation and, as a result, many of the dispersing butterflies are thought to perish during their dispersals. Suitable unoccupied habitat exists in the lower Florida Keys, but butterflies are not currently able to travel from the core population centers in the upper Florida Keys to these locations because food supplies are limited between these areas. The proposed conservation measures will reduce the distance butterflies will have to fly in order to find nourishment, resulting in increased survival of dispersing butterflies. Increased survival of dispersing butterflies is believed to enhance the probability of natural recolonization of unoccupied, suitable habitat in the lower Florida Keys.

The Applicant recognizes the inherent benefits of implementing the conservation measures for the butterfly, however, the Applicant also wishes to retain flexibility with respect to future land use of their property. Though not anticipated in the immediate future, such alterations in land uses may require the removal of some or all of the planted vegetation which could reduce, or remove entirely, the overall conservation value of these plantings to the butterfly. Accordingly, the Service has entered into the SHA with the Applicant and proposes to issue the requested ESP to cover the potential removal of butterfly habitat by the Applicant in the future to baseline conditions. The Service has established the baseline conditions at the enrolled property as zero (0) butterflies and no currently suitable butterfly habitat.

The Service will also evaluate whether the issuance of the ESP complies with section 7 of the Act by conducting an intra-Service section 7 consultation. The results of the biological opinion, in combination with the above findings and any public comments, will be used in the final analysis to determine whether or not to issue the requested ESP.

Dated: May 29, 2001.
H. Dale Hall,
Acting Regional Director.

[FR Doc. 01-14860 Filed 6-12-01; 8:45 am]

BILLING CODE 4310-55-P